DEPARTMENT OF THE INTERIOR

Bureau of Land Management

[UT-070-1310-00]

Notice of Intent to Prepare an Environmental Impact Statement (EIS) and to Conduct Public Scoping for the West Tavaputs Natural Gas Full Field Development Plan, Carbon and Duchesne Counties, UT

AGENCY: Bureau of Land Management, Interior.

ACTION: Notice of intent (NOI) to conduct public scoping and prepare an Environmental Impact Statement (EIS) for the West Tavaputs Natural Gas Full Field Development Plan, Carbon and Duchesne Counties, UT.

SUMMARY: Pursuant to Section 102(2)(C) of the National Environmental Policy Act (NEPA) of 1969, the Bureau of Land Management (BLM), Price Field Office, Price, Utah, will prepare an EIS on the impacts of efficient and orderly development of the natural gas resources in the West Tavaputs Plateau area on approximately 137,700 acres of public, state, and private lands in Carbon and Duchesne Counties in eastern Utah, as well as considering a site-specific development proposal on a portion of the West Tavaputs Plateau area. The Price Field Office Manager will be the authorized officer for this project.

DATES: A public scoping period of at least 30 days will commence on the date this notice is published in the Federal Register. If you have any information, data or concerns related to the potential impacts of the proposed action, or have suggestions for additional alternatives, or have comments on the proposed planning amendment criteria, please submit them to the address listed below within 30 days of the date this Notice is published, or within 15 days after the last public meeting is held. Public open houses and informational meetings will be conducted during the scoping period in Price, Roosevelt, and Salt Lake City, Utah. Details on these meetings will be publicized in the respective city's newspapers at least 15 days prior to their scheduled dates.

ADDRESSES: Written scoping comments should be sent to: Field Manager, Bureau of Land Management, Price Field Office, 125 South 600 West, Price, Utah 84501, ATTN: West Tavaputs Natural Gas Full Field Development Plan. Comments, including names and street addresses of respondents will be available for public review at the BLM Price Field Office and will be subject to disclosure under the Freedom of Information Act (FOIA). They may be published as part of the EIS and other related documents. Individual respondents may request confidentiality. If you wish to withhold your name or street address from public review and disclosure under the FOIA, you must state this prominently at the beginning of your written comment. Such requests will be honored to the extent allowed by law. All submissions from organizations or businesses will be made available for public inspection in their entirety.

FOR FURTHER INFORMATION CONTACT: Fred O'Ferrall, (435) 636-3607.

SUPPLEMENTARY INFORMATION: Bill Barrett Corporation (BBC), together with some other lessees, has submitted a proposal to develop the natural gas resources on leased lands under their control in the West Tavaputs Plateau area. The BLM has determined that a comprehensive plan for full field development of the natural gas resources in the larger field area would allow more flexibility. A more comprehensive area analysis will reduce the need for redundant future analyses, since the analysis of the comprehensive plan would also evaluate the impacts of other development proposals on existing lessees in the area and the impacts of development on lands not currently under lease. The EIS will consider and analyze potential impacts of natural gas development at the levels projected by BBC or as refined during the scoping process on both leased and unleased lands in the entire West Tavaputs Plateau area. This analysis will include a site-specific evaluation of BBC's proposal under an appropriate range of alternatives, and will also consider mitigation measures as Conditions of Approval under which the development may take place.

Description of the Proposed Action

The proposed action is to consider and determine the conditions under which full field development of natural gas resources within the West Tavaputs area (an area larger than, but encompassing, BBC's “project area”) would be approved. The BLM anticipates analyzing the proposed action and also intends to rely on this EIS to evaluate and, if appropriate, approve site-specific individual drilling applications and right-of-way authorizations, where applicants (such as, BBC) can provide sufficiently detailed information for inclusion into this process. The development plan proposal includes multiple wells, roads, access routes, production facilities, and utilities. The total number of wells ultimately drilled for field development depends on many factors, such as reservoir properties, production success, per well recovery, emergent engineering technologies, economic factors, availability of commodity markets, and lease stipulations and restrictions.

Site-Specific Project Proposal by BBC and Others

The project area identified by BBC encompassing approximately 137,700 acres, is located approximately 25 miles east of Price, Utah and 60 miles southwest of Vernal, Utah and is within Carbon and Duchesne Counties in Eastern Utah. The full field development area/EIS involves approximately 87% BLM-administered lands (119,661 acres); 8% State of Utah-administered lands (10,434 acres); and 5% private mineral land (7,605 acres). Approximately 98 percent of the BBC proposed project is located on the top of the West Tavaputs plateau. The remaining area, approximately two percent, is proposed to be located in the narrow canyon bottoms of the Nine Mile Canyon region and in portions of Jack Canyon and Desolation Canyon Wilderness Study Areas, on existing Federal leases with valid existing rights.

The long-term BBC proposal for full development (along with other operators) of their mineral leases includes drilling up to 750 new wells (Federal, state and private minerals) on a maximum of 500 surface locations over a period of 20 years or until such date as the resource base is fully developed. The number of wells drilled each year would average about 30, although peak activity in any one year might reach 70 or more wells. The BBC development proposal contemplates some year-round drilling which would require applications for one-time exceptions and/or waiver of existing lease stipulations imposed to protect seasonal range habitat for elk, mule deer and bighorn sheep.

Preliminary estimates anticipate that the amount of surface disturbance will range from two to four thousand acres out of the 137,700 acre full field development area and that the projected field life will be 40 or more years. Directional and other drilling techniques are included in BBC's proposal and will also be used, as appropriate, throughout the area to keep the number of surface locations to the minimum necessary to effectively and efficiently recover the hydrocarbon resources (BBC is proposing 750 wells from 500 surface locations in its project area, assuming 80-acre spacing for resource recovery). In addition to the well pads, roads, gas flow lines and gathering lines, other required infrastructure would include electrical lines, water (and possible condensate) lines, water treatment, storage and disposal facilities, and gas treatment and compression facilities. Gas and any condensate would be transported via pipeline to existing and new centralized compression, treatment and sales facilities. Produced water and any gas condensates would be transported by truck or pipeline to approved sales, treatment or disposal facilities.

Purpose and Need

The purpose of the proposed development action is to extract and recover natural gas from the West Tavaputs plateau area in an efficient and orderly manner. The EIS will analyze full field development, BBC's proposed action, and reasonable alternatives at the appropriate scope (including the no action alternative as well as alternatives involving application of mitigation and/or other management protections for other resource values and programs). This is in accordance with BLM's multiple-use mandate and the goals and objectives of the President's National Energy Plan. One of the identified needs for the EIS at this time is based on the continuing increase in the United States' demand for natural gas. BBC's development proposal indicates that up to 250 million cubic feet of natural gas per day could be produced to help meet the nation's growing need for natural gas. Identified benefits that may be derived from the natural gas development also include increased royalty and tax revenue to local, State and Federal governments, as appropriate, and additional opportunities for employment and economic benefits at the local and regional level.

Alternatives

The EIS will analyze the proposed action, reasonable alternatives formulated through the scoping process, and the No Action Alternative (in which only the 38 wells presently approved under the West Tavaputs Drilling Program EA would be drilled). Some alternatives will consider and analyze mitigation and other measures to protect other resources and uses that could be imposed as Conditions of Approval under which the development may take place. At least one of the alternatives will consider the use of Best Management Practices such as: (1) Burying of flow lines for transport of water, condensate and gas to centralized facilities; (2) requiring extensive interim reclamation of production areas; (3) locating facilities and wells in visually acceptable areas and painting with colors that blend in with the natural environment; (4) minimizing the amount of surface disturbance with the use of alternative techniques, such as drilling of multiple wells from the same surface location; (5) using existing well locations and other techniques designed to reduce the footprint of new and existing oil and gas production facilities and infrastructure; and, (6) designing/constructing all new roads to a safe and appropriate standard to accommodate their intended use.

Anticipated Issues and Management Concerns

Preliminary issues identified at this time include (1) archaeological, historic and cultural features including late-19th-century structures and prehistoric rock art; (2) wildlife, including big game species (Mule Deer, Elk, etc.); (3) Threatened and Endangered species (Bald Eagle, Mexican Spotted Owl, and several endangered fish including Colorado Pikeminnow, Humpback Chub, Bonytail, and Razorback Sucker); (4) Utah BLM sensitive species such as the Greater Sage Grouse; (5) surface and subsurface watersheds/hydrology; (6) transportation and roads, such as the Nine Mile Canyon National Backcountry Byway; (7) vegetation (including the potential introduction of noxious weeds, short-term re-vegetation and restoration of disturbed areas, and long-term establishment and stabilization of perennial vegetation through recommended reclamation measures); (8) drilling from within the canyon rims and in the narrow canyon bottoms in the region; (9) the proposed Nine-Mile Canyon Area of Critical Environmental Concern (ACEC); (10) the Jack Canyon Wilderness Study Area and the Desolation Canyon Wilderness Study Area; (11) the Green River and its potential for designation under the Wild and Scenic River Act; (12) the Desolation Canyon National Historic Landmark; (13) air quality and visual clarity; (14) recreational opportunities; and (15) existing scenic quality of the landscape. Other considerations include FLPMA and NEPA in relationship to the existing Price Management Framework Plan, as amended, and the proposed Price Resource Management Plan/EIS revision. These preliminary issues are not final. Identification of additional issues and/or issue refinement through the public participation process is anticipated.

Comments should address: (1) Issues to be considered for analysis; (2) reasonable alternatives; and, (3) relevant information for consideration relating to the analysis of full field development, BBC's proposed development or its potential impacts. The EIS will consider comments and other issues/concerns raised during the scoping period in addition to those issues identified in this notice. The BLM may use the information collected during the scoping period to: (1) Develop/analyze appropriate mitigation as Conditions of Approval under which the proposed development may take place; (2) consider potential reasonable alternatives to the proposed action: or, (3) both.

Existing Development and Prior NEPA Documents in the Plan Area

Currently, there are 71 natural gas wells, with their attendant service roads and facilities, already existing within the project area. Of these 37 wells are capable of production and 34 are temporarily abandoned or plugged and abandoned. The drilling of 38 new exploration wells within the project area and the corresponding production infrastructure was previously analyzed in the West Tavaputs Drilling Program (EA) (UT-070-2004-28) and approved by a Decision Record and Finding of No Significant Impact on July 29, 2004. Construction and drilling associated with that exploration project approval is in progress. The Stone Cabin 3D Seismic Survey project (EA) (UT-070-2003-15), now completed, also provided environmental analysis of the impacts of seismic exploration activities involving some of the same lands that are now proposed for development within the project area.

Consistency With Land Use Plans, NEPA, and Potential Plan Amendments

The Price Resource Management Plan (RMP) revision/EIS is currently under development. The RMP analyzes (at the landscape level) a range of levels of use for natural gas development inclusive of the level of development as proposed by BBC, and will provide the prerequisite landscape level analysis and various resource protections. The BLM will ensure that its actions are consistent with the applicable land use plan. In the event approval of the Price RMP is unduly delayed, this EIS may alternatively serve as an amendment to the existing Management Framework Plan. Should such an amendment be necessary it will be based on the following preliminary Planning Criteria that have been identified to guide resolution of any planning issues that may arise as a result of this full field development EIS analysis: (1) The plan amendment will recognize the existence of valid existing rights; (2) lands covered in the RMP amendment will be public lands, which include split estate lands, managed by BLM. Decisions in the RMP amendment will be made only on lands managed by BLM; (3) the BLM will use a collaborative and multi-jurisdictional approach, where possible, to jointly determine the desired future condition of public lands; (4) the BLM will make all possible attempts to ensure that its management prescriptions and amended planning actions are as complimentary as possible to other planning jurisdictions, within the boundaries described by law and policy; (5) the BLM will consider the management prescriptions on adjoining lands to minimize inconsistent management. To the extent possible, BLM will coordinate inventories, planning, and management programs with other Federal, state, tribal, and local governments and agencies; (6) management prescriptions will focus on the relative values of resources and not necessarily the combination of uses that will give the greatest economic return or economic output; (7) to the extent possible, the BLM will use current scientific information, research, new technologies and the results of resource assessments, monitoring and coordination to determine appropriate local and regional management strategies that will enhance or recover impaired ecosystems; and (8) the plan amendment will be completed in compliance with FLPMA, NEPA, and all other relevant Federal laws, executive orders and management policies of the BLM.

Site-Specific NEPA

While this EIS is intended to analyze site-specific impacts, site-specific NEPA analysis and documentation must remain adequate and detailed enough to identify and support any Conditions of Approval or other adaptive management actions justified by future site-specific considerations. This is necessary so as to retain BLM's full authority at each decision stage to manage its lands in accordance with land use plans, prevent unacceptable impacts, and to support appropriate levels of protection and/or mitigation against effects on other resource values. Accordingly, additional site-specific NEPA analysis may be required before individual activities are approved based on a review of the specific conditions and the adequacy of the existing NEPA documentation at the time activities are proposed.

Patrick Gubbins,
Price Field Manager.

[FR Doc. 05-16953 Filed 8-25-05; 8:45 am]

BILLING CODE 4310-DK-P